DEPARTMENT OF JUSTICE

Antitrust Division

Notice Pursuant to the National Cooperative Research and Production Act of 1993—Z-Wave Alliance, Inc.

Notice is hereby given that, on January 26, 2024, pursuant to section 6(a) of the National Cooperative Research and Production Act of 1993, 15 U.S.C. 4301 et seq. (the “Act”), Z-Wave Alliance, Inc. (the “Joint Venture”) filed written notifications simultaneously with the Attorney General and the Federal Trade Commission disclosing changes in its membership. The notifications were filed for the purpose of extending the Act's provisions limiting the recovery of antitrust plaintiffs to actual damages under specified circumstances.

Specifically, Oliver IQ Inc., Sandy, UT; Shenzhen Longzhiyuan Technology Co., Ltd., Shenzhen, PEOPLE'S REPUBLIC OF CHINA; Idlespace Technology Company Co., Ltd., Ontario, CANADA; and iHomeFuture, Dubai, UNITED ARAB EMIRATES have joined as parties to the venture.

Also, VDA Group SpA a S.U., Pordenone, ITALY; ELTEX Enterprise Ltd., Novosibirsk, RUSSIA; BRK Brands Inc., Aurora, IL; Buo Home SL, Parets Del Valles, SPAIN; GroupSYS Pty Ltd, Erina, AUSTRALIA; Pyronix Limited, Rotherham, UNITED KINGDOM; Worthington Distribution, Tafton, PA; Rently Keyless, Los Angeles, CA; Daikin Airconditioning (Singapore) Pte Ltd., Singapore, SINGAPORE; Spectrum Brands Inc., Lake Forest, CA; Devicebook Inc., Bellevue, WA; and Zone-B2B SARL, Saint-Prex, SWITZERLAND have withdrawn as parties to the venture.

In addition, an existing member, Fibar Group S.A. has changed its name to Nice-Polska Sp. Z.o.o., Wysogotowo, POLAND.

Finally, Canny Electrics, Melbourne, AUSTRALIA withdrew as a party to the venture on January 9, 2024; and rejoined as a party to the venture on January 24, 2024.

No other changes have been made in either the membership or the planned activity of the venture. Membership in this venture remains open, and the Joint Venture intends to file additional written notifications disclosing all changes in membership.

On November 19, 2020, the Joint Venture filed its original notification pursuant to section 6(a) of the Act. The Department of Justice published a notice in the Federal Register pursuant to section 6(b) of the Act on December 1, 2020 (85 FR 77241).

The last notification was filed with the Department on November 1, 2023. A notice was published in the Federal Register pursuant to section 6(b) of the Act on December 15, 2023 (88 FR 86933).

Suzanne Morris,
Deputy Director Civil Enforcement Operations, Antitrust Division.

[FR Doc. 2024-05308 Filed 3-12-24; 8:45 am]

BILLING CODE P